DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of November, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,022; Celanese Acetate, Cel River Plant, Rock Hill, SC.

TA-W-38,204; Williamette Industries, Custom Products Div., Albany, OR.

TA-W-37,911; Pillowtex Corp., Rocky Mount, NC.

TA-W-38,211; ADM Milling Co., Milwaukee, WI.

TA-W-38,145; Ceragraphic, Inc., Hackensack, NJ.

In the following cases, the investigation revealed that the criteria for eligibility have not been met for the reasons specified.

TA-W-38,213; General Electric Industrial Systems, Motor Div., Erie, PA.

TA-W-37,919; Guess?, Inc., Los Angeles, CA.

TA-W-38,223; GE Capital Card Service, Cincinnati, OH.

The workers firm does not produce an article as required for certification under Section 222 of the Trade Act of 1974.

TA-W-38,031; Wabash Automotive, Fort Worth, TX.

TA-W-38,006; Rohm and Haas Co., Philadelphia, PA.

TA-W-38,239; Airtherm LLC, Forrest City, AR.

TA-W-37,998; Eaton Corp., Vickers Industrial and Mobile Div., Omaha, NE.

TA-W-37,933; Scott Logging, Inc., Bend, OR.

TA-W-38,010; Key Tronic Corp., Spokane, WA.

TA-W-38,076; Union Tools, Frankfort, NY.

TA-W-37,962; Boise Cascade Corp., Timber and Wood Products Div., Independence, OR.

TA-W-38,238; Royal Oak Enterprises, Inc., Paris, AR.

TA-W-38,168; Anchor Dye and Finishing Co. A Div. of Amicale Industries, Inc., Philadelphia, PA.

Increased imports did not contribute importantly to worker separations at the firm.

TA-W-37,999; Savane International Corp., El Paso, TX

The investigation revealed that criteria (1) has not been met. A significant number or proportion of the workers did not become totally or partially separated from employment as required for certification.

Affirmative Determinations for Worker Adjustment Assistance

The following certifications have been issued; the date following the company name and location of each determination references the impact date for all workers of such determination.

TA-W-38,290; Sara Campbell Ltd, Boston, MA: October 20, 1999.

TA-W-38,136; Fruit of The Loom, Texas, Inc., Gitano Dept, Harlingen, TX: September 11, 1999.

TA-W-37,887; Avent, Inc., Tucson, AZ: April 8, 2000.

TA-W-38,173; Ethicon Endo-Surgery, Inc., Including Leased Workers of Kelly Services, Cincinnati, OH; September 20, 1999.

TA-W-37,965; Telex Communication, Inc., Sevierville, TN: July 24, 1999.

TA-W-38,159; Exel USA, Inc., Fiberspar Sports, West Wareham, MA: September 15, 1999.

TA-W-38,105; Briggs Industries, Inc., Abingdon, IL: September 7, 1999.

TA-W-38,245, Leapwood Apparel, Adamsville, TN: October 11, 1999.

TA-W-38,025; Jenny K. Fashions, Meriden, CT: May 11, 1999.

TA-W-37,179; Wexco Corp., Lynchburg, VA: September 22, 1999.

TA-W-37,926; Philips Consumer Electronics—Industrial Operation, Life Test and Qualify Control Dept, Greenville, TN: July 13, 1999.

TA-W-37,809; Aly-Wear, Inc., Ephrata, PA: April 12, 1999.

TA-W-37,994; Central Point Lumber, a/k/a Tree Source, Central Point, OR; August 10, 1999.

TA-W-38,220; Avery Dennison, Writing Instruments Div., Crossville, TN: September 29, 1999.

TA-W-37,858; Shape Global Technology, Inc., Kennebunk, ME: June 28, 1999.

TA-W-38,009; Roseburg Forest Products, Co., Big Log Sawmill, Dillard, OR: August 16, 1999.

TA-W-37,831; Cross Huller North America, Div. of Thyseeenrupp, Fraser, MI: June 14, 1999.

TA-W-38,119; John Dusenberg Co., Randolph, NJ: September 11, 1999.

TA-W-38,143 & A; Copley Pharmaceutical, Inc., Canton, MA and Dedham, MA: September 13, 1999.

TA-W-38,042; EJ Footwear LLC, Franklin, TN: August 22, 1999.

TA-W-38,130; Elberton Manufacturing Co., Inc., Elberton, GA: September 8, 1999.

TA-W-37,929; B.F. Goodrich Aerospace (Coltec), Landing Gear Div., Eulese, TX: July 14, 1999.

TA-W-38,057; Corlair Corp., Piedmont, MO: August 24, 1999.

TA-W-38,124; A.D.H. Manufacturing Corp., Etowah, TN: September 8, 1999.

TA-W-38,102; McDowell Manufacturing, DuBois, PA: September 11, 1999.

TA-W-37,942; Unique Finishing, Inc., Wrightsville, GA: July 19, 1999.

TA-W-38,038; Guilford Mill, Inc., Fishman Facility, Greensboro, NC; August 7, 1999.

TA-W-38,272; Renfro Corp., Finishing Dept, Pulaski, VA: October 13, 1999.

TA-W-38,070; Sharp Manufacturing Co. of America, Memphis, TN: September 11, 1999.

TA-W-38,234 & A; Northside Manufacturing, Philipsburg, PA and Streamline Fashions Manufacturing Co., Philipsburg, PA: October 6, 1999.

TA-W-38,004 & A; Duluth Engineering and Manufacturing/Pitman, Duluth, MN and Grandview, MO: August 11, 1999.

TA-W-38,190; Amscan, Inc., Lumart Div., Brooklyn, NY: September 22, 1999.

TA-W-38,176; Tyco Electronics, TDI Batteries Div., Romeoville, IL: September 8, 1999.

TA-W-38,296; Kim Mark Hosiery, Mount Airy, NC: July 14, 1999.

TA-W-38,235; Universal Auto Radiator Mfg Co., Pittsburgh, PA: October 10, 1999.

TA-W-38,016; Leoni Wiring Systems, Tucson, AZ: August 10, 1999.

TA-W-37,953; & A, B; Stanley Knitting Mills (South Main Street Plant), Oakboro, NC, Richfield, NC and Stanley Knitting Mills, Sales Corp., New York: August 4, 1999.

TA-W-38,030; Phoenix Medical Technology, Inc., Andrews, SC: August 17, 1999.

TA-W-37,980; Fulton Apparel, Inc., South Pittsburg, TN: July 27, 1999.

TA-W-38,273; McNairy Shirtworks, Adamsville, TN: October 17, 1999.

TA-W-38,273; Stanley Tools, Eagle Square Plant, Shaftsbury, VT: August 8, 1999.

TA-W-38,255; Still-Man Heating Product, Cookeville, TN: October 18, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of November, 2000.

In order for an affirmative determination to be made and a certification of eligibility to apply for NAFTA-TAA the following group eligibility requirements of Section 250 of the Trade Act must be met:

(1) That a significant number or proportion of the workers in the workers' firm, or an appropriate subdivision thereof; (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04282; Norman Barnes & Co., Inc., Arlington, WA

NAFTA-TAA-04210; Royal Oak Enterprises, Inc., Paris, AR

NAFTA-TAA-03904; APV Americas, Lake Mills, WI

NAFTA-TAA-04120; Corlair Corp., Piedmont, MO

NAFTA-TAA-04025; Kim Mark Hosiery, Inc., Mount Airy, NC

NAFTA-TAA-04149; Owik Tool Manufacturing, Magna Div., Lexington, KY

NAFTA-TAA-04131; Burlington Resources Oil and Gas, Mid Continent-Rockies, Sidney, MT

NAFTA-TAA-04194; Wabash Automotive, Ft. Worth, TX

NAFTA-TAA-04226; Airtherm, LLC, Forrest City, AR

NAFTA-TAA-04169; Hoh River Timber, Omak, WA

NAFTA-TAA-04162; Potlatch Corp., Wook Products, Div: Jaype Mill, Pierce, ID

NAFTA-TAA-04167; Roseboro, Lumber, Dimension Lumber Div., Springfield, OR

NAFTA-TAA-04179; GP Timber, Central Point, OR

The investigation revealed that the criteria for eligibility have not been met for the reasons specified.

NAFTA-TAA-04197; General Electric Industrial Systems, Motors Div., Erie, PA.

NAFTA-TAA-04239; DR Rent, LLC, Klamath Falls, OR.

NAFTA-TAA-04177; Derby Industries, LLC, Lexington, KY.

NAFTA-TAA-04243; Pronav Ship Management, Inc., Greenwich, CT.

The investigation revealed that workers of the subject firm did not produce an article within the meaning of Section 250(a) of the Trade Act, as amended.

Affirmative Determinations NAFTA-TAA

NAFTA-TAA-04088; Leoni Wiring Systems, Tucson, AZ: August 10, 1999.

NAFTA-TAA-04223; Amscan, Inc., Lumart Div., Brooklyn, NY: September 22, 1999.

NAFTA-TAA-04061 & A, B; Stanley Knitting Mills (South Main Street Plant), Oakboro, NC, Richfield, NC and Stanley Knitting Mils Sales Corp., New York, NY: August 4, 1999.

NAFTA-TAA-04032; Philips Consumer Electronics—Industrial Operations, Life Test and Quality Control Department, Greenville, TN: July 13, 1999.

NAFTA-TAA-04168; Tyco Electronics TDI Batteries Div., Tomeoville, IL: September 21, 1999.

NAFTA-TAA-04160; Quality Veneer and Lumber, Aberdeen, WA: September 12, 1999.

NAFTA-TAA-04111; Hayden Industrial Products LLC, Corona, CA August 22, 1999.

NAFTA-TAA-04245; Still-Man Heating Products, Cookeville, TN: October 18, 1999.

NAFTA-TAA-4296; Mulox, Inc., Macon, GA: August 30, 1999.

NAFTA-TAA-04257; A.O. Smith Electrical Products Do., Paoli Plant, Paoli, IN: October 20, 1999.

NAFTA-TAA-04260; 3M, Scientific Angler, a/k/a Streamworks, a/k/a D.B. Dun, Boise, ID: October 19, 1999.

NAFTA-TAA-04251; Authentic Fitness Corp., Cutting Operation, Bell, CA: September 16, 1999.

NAFTA-TAA-04211; Tyco Electronics, Clinton Township, MI: October 4, 1999.

NAFTA-TAA-04076; Reynolds Metals Co., Troutdale, OR: August 9, 1999.

I hereby certify that the aforementioned determinations were issued during the month of November, 2000. Copies of these determinations are available for inspection in Room C-5311, U.S. Department of Labor, 200 Constitution Avenue, NW., Washington, DC, 20210 during normal business hours or will be mailed to persons who write to the above address.

Dated: November 27, 2000.
Edward A. Tomchick,
Director, Division of Trade Adjustment Assistance.

[FR Doc. 00-31036 Filed 12-5-00; 8:45 am]

BILLING CODE 4510-30-M